DEPARTMENT OF COMMERCE

National Oceanic and Atmospheric Administration

[RTID 0648-XA289]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (Council) Northeast Trawl Advisory Panel (NTAP) Working Group will hold a meeting.

DATES: The meeting will be held on Monday, August 3, 2020, beginning at 1 p.m. and conclude by 4 p.m. For agenda details, see SUPPLEMENTARY INFORMATION.

ADDRESSES: The meeting will be held via webinar (http://www.mafmc.org/ntap).

Council address: Mid-Atlantic Fishery Management Council, 800 N. State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The purpose of this meeting is to: (1) Discuss timing concerns due to COVID-19, (2) working group member roles and responsibilities, (3) objectives, approaches, and the implementation plan of NTAP side-by-side research, and (4) develop talking points for a full panel update.

Authority: 16 U.S.C. 1801 et seq.

Dated: July 15, 2020.
Tracey L. Thompson,
Acting Deputy Director, Office of Sustainable Fisheries, National Marine Fisheries Service.

[FR Doc. 2020-15603 Filed 7-17-20; 8:45 am]

BILLING CODE 3510-22-P